DEPARTMENT OF COMMERCE

Foreign-Trade Zones Board

[Docket 11-2009]

Foreign-Trade Zone 31—Granite City, IL: Expansion of Manufacturing Authority—Subzone 31B; WRB Refining LLC; (Oil Refinery Complex) Madison County, IL

An application has been submitted to the Foreign-Trade Zones (FTZ) Board (the Board) by the Tri-City Regional Port District, grantee of FTZ 31, requesting authority on behalf of WRB Refining LLC (WRB), to expand the scope of manufacturing activity conducted under zone procedures within Subzone 31B at the oil refinery complex of WRB located at sites in Madison County, Illinois. The application was submitted pursuant to the Foreign-Trade Zones Act, as amended (19 U.S.C. 81a-81u), and the regulations of the Board (15 CFR part 400). It was formally filed on March 12, 2009. Subzone 31B (2,100 employees) was approved by the Board on March 10, 1997 for the manufacture of fuel products and certain petrochemical feedstocks (Board Order 878, 62 FR 13593-13594, 3/21/1997). The subzone refinery complex currently consists of 5 sites (totaling approx. 2,075 acres, 290,000 BPD capacity) located near Hwy 111 in Wood River Township, Madison County, Illinois. The refinery is undergoing an expansion that will add units and upgrade existing units within the subzone boundaries that is expected to expand crude production capacity up to 380,000 barrels per day. No additional feedstocks or products have been requested.

Zone procedures would exempt the increased production from customs duty payments on the foreign products used in its exports. On domestic sales of the increased production, the company would be able to choose the duty rates for certain petrochemical feedstocks (duty-free) by admitting foreign crude oil in non-privileged foreign status. The duty rates on crude oil range from 5.25 cents/barrel to 10.5 cents/barrel. The application indicates that the additional savings from zone procedures would help improve the refinery's international competitiveness.

In accordance with the Board's regulations, Diane Finver of the FTZ staff is designated examiner to investigate the application and report to the Board.

Public comment is invited from interested parties. Submissions (original and 3 copies) shall be addressed to the Board's Executive Secretary at the address below. The closing period for their receipt is May 19, 2009. Rebuttal comments in response to material submitted during the foregoing period may be submitted during the subsequent 15-day period (to June 3, 2009).

A copy of the request will be available for public inspection at the Office of the Executive Secretary, Foreign-Trade Zones Board, Room 2111, U.S. Department of Commerce, 1401 Constitution Avenue, NW., Washington, DC 20230-0002, and in the “Reading Room” section of the Board's Web site, which is accessible via www.trade.gov/ftz. For further information, contact Diane Finver at Diane_Finver@ita.doc.gov, or (202) 482-1367.

Dated: March 12, 2009.
Andrew McGilvray,
Executive Secretary.

[FR Doc. E9-6162 Filed 3-19-09; 8:45 am]

BILLING CODE 3510-DS-P